DEPARTMENT OF ENERGY

Federal Energy Regulatory Commission

Combined Notice of Filings #1

Take notice that the Commission received the following exempt wholesale generator filings:

Docket Numbers: EG21-129-000.

Applicants: Société de cogénération de St-Félicien,

Description: Notice of Self-Certification of Exempt Wholesale Generator Status of Societe de cogeneration de St-Felicien, Societe en commandite.

Filed Date: 4/21/21.

Accession Number: 20210421-5156.

Comments Due: 5 p.m. ET 5/12/21.

Take notice that the Commission received the following electric rate filings:

Docket Numbers: ER20-263-003.

Applicants: Doswell Limited Partnership.

Description: Compliance filing: Reactive Service Tariff Compliance Filing to be effective 12/1/2019.

Filed Date: 4/22/21.

Accession Number: 20210422-5169.

Comments Due: 5 p.m. ET 5/13/21.

Docket Numbers: ER21-1727-000.

Applicants: Morgan Stanley Capital Group Inc.

Description: § 205(d) Rate Filing: Revised Rate schedule 2021 to be effective 4/23/2021.

Filed Date: 4/22/21.

Accession Number: 20210422-5064.

Comments Due: 5 p.m. ET 5/13/21.

Docket Numbers: ER21-1728-000.

Applicants: PJM Interconnection, L.L.C.

Description: § 205(d) Rate Filing: Original NSA, SA No. 6027; Queue No. NQ123 to be effective 3/23/2021.

Filed Date: 4/22/21.

Accession Number: 20210422-5068.

Comments Due: 5 p.m. ET 5/13/21.

Docket Numbers: ER21-1729-000.

Applicants: MS Solar Solutions Corp.

Description: § 205(d) Rate Filing: Revised Rate schedule 2021 to be effective 4/23/2021.

Filed Date: 4/22/21.

Accession Number: 20210422-5072.

Comments Due: 5 p.m. ET 5/13/21.

Docket Numbers: ER21-1730-000.

Applicants: Morgan Stanley Energy Structuring, L.L.C.

Description: § 205(d) Rate Filing: Revised Rate schedule 2021 to be effective 4/23/2021.

Filed Date: 4/22/21.

Accession Number: 20210422-5075.

Comments Due: 5 p.m. ET 5/13/21.

Docket Numbers: ER21-1731-000.

Applicants: TAQA Gen X LLC.

Description: § 205(d) Rate Filing: Revised Rate schedule 2021 to be effective 4/23/2021.

Filed Date: 4/22/21.

Accession Number: 20210422-5081.

Comments Due: 5 p.m. ET 5/13/21.

Docket Numbers: ER21-1732-000.

Applicants: Northern Indiana Public Service Company.

Description: § 205(d) Rate Filing: Filing of a New Delivery Point—South Central to be effective 5/1/2021.

Filed Date: 4/22/21.

Accession Number: 20210422-5104.

Comments Due: 5 p.m. ET 5/13/21.

Docket Numbers: ER21-1733-000.

Applicants: Southern California Edison Company.

Description: § 205(d) Rate Filing: Second Amended LGIA Rosamond West Solar SA No. 166 to be effective 4/23/2021.

Filed Date: 4/22/21.

Accession Number: 20210422-5124.

Comments Due: 5 p.m. ET 5/13/21.

Docket Numbers: ER21-1734-000.

Applicants: El Paso Electric Company.

Description: § 205(d) Rate Filing: Service Agreement No. 351, Simultaneous Exchange with SRP to be effective 6/16/2021.

Filed Date: 4/22/21.

Accession Number: 20210422-5137.

Comments Due: 5 p.m. ET 5/13/21.

Docket Numbers: ER21-1735-000.

Applicants: Indianapolis Power & Light Company.

Description: Baseline eTariff Filing: New Tariff ID Filing and Request for Administrative Cancellation to be effective 4/22/2021.

Filed Date: 4/22/21.

Accession Number: 20210422-5164.

Comments Due: 5 p.m. ET 5/13/21.

Take notice that the Commission received the following foreign utility company status filings:

Docket Numbers: FC21-12-000.

Applicants: Paju Energy Services Company Limited.

Description: Notice of Self-Certification of Foreign Utility Company Status of Paju Energy Services Company Limited.

Filed Date: 4/20/21.

Accession Number: 20210420-5200.

Comments Due: 5 p.m. ET 5/11/21.

Docket Numbers: FC21-13-000.

Applicants: PT Darajat Geothermal Indonesia.

Description: Notice of Self-Certification of Foreign Utility Company Status of PT Darajat Geothermal Indonesia.

Filed Date: 4/20/21.

Accession Number: 20210420-5204.

Comments Due: 5 p.m. ET 5/11/21.

Docket Numbers: FC21-14-000.

Applicants: Roi-Et Green Company Limited.

Description: Notice of Self-Certification of Foreign Utility Company Status of Roi-Et Green Company Limited.

Filed Date: 4/20/21.

Accession Number: 20210420-5205.

Comments Due: 5 p.m. ET 5/11/21.

Docket Numbers: FC21-15-000.

Applicants: San Buenaventura Power Limited Company.

Description: Notice of Self-Certification of Foreign Utility Company Status of San Buenaventura Power Limited Company.

Filed Date: 4/20/21.

Accession Number: 20210420-5206.

Comments Due: 5 p.m. ET 5/11/21.

Docket Numbers: FC21-16-000.

Applicants: Solarco Company Limited

Description: Notice of Self-Certification of Foreign Utility Company Status of Solarco Company Limited.

Filed Date: 4/20/21.

Accession Number: 20210420-5207.

Comments Due: 5 p.m. ET 5/11/21.

Docket Numbers: FC21-17-000.

Applicants: Star Energy Geothermal Darajat I, Ltd.

Description: Notice of Self-Certification of Foreign Utility Company Status of Star Energy Geothermal Darajat I, Ltd.

Filed Date: 4/20/21.

Accession Number: 20210420-5209.

Comments Due: 5 p.m. ET 5/11/21.

Docket Numbers: FC21-18-000.

Applicants: Star Energy Geothermal Darajat II, Ltd.

Description: Notice of Self-Certification of Foreign Utility Company Status of Star Energy Geothermal Darajat II, Ltd.

Filed Date: 4/20/21.

Accession Number: 20210420-5211.

Comments Due: 5 p.m. ET 5/11/21.

Docket Numbers: FC21-19-000.

Applicants: Star Energy Geothermal Salak, Ltd.

Description: Notice of Self-Certification of Foreign Utility Company Status of Star Energy Geothermal Salak, Ltd.

Filed Date: 4/20/21.

Accession Number: 20210420-5220.

Comments Due: 5 p.m. ET 5/11/21.

Docket Numbers: FC21-20-000.

Applicants: Star Energy Geothermal Salak Pratama, Lt.

Description: Notice of Self-Certification of Foreign Utility Company Status of Star Energy Geothermal Salak Pratama, Ltd.

Filed Date: 4/20/21.

Accession Number: 20210420-5224.

Comments Due: 5 p.m. ET 5/11/21.

Docket Numbers: FC21-21-000.

Applicants: Star Energy Geothermal (Wayang Windu) Lt.

Description: Notice of Self-Certification of Foreign Utility Company Status of Star Energy Geothermal (Wayang Windu) Ltd.

Filed Date: 4/20/21.

Accession Number: 20210420-5227.

Comments Due: 5 p.m. ET 5/11/21.

Docket Numbers: FC21-22-000.

Applicants: Theppana Wind Farm Company Limited.

Description: Notice of Self-Certification of Foreign Utility Company Status of Theppana Wind Farm Company Limited.

Filed Date: 4/20/21.

Accession Number: 20210420-5228.

Comments Due: 5 p.m. ET 5/11/21.

Docket Numbers: FC21-23-000.

Applicants: Xayaburi Power Company Limited.

Description: Notice of Self-Certification of Foreign Utility Company Status of Xayaburi Power Company Limited.

Filed Date: 4/20/21.

Accession Number: 20210420-5229.

Comments Due: 5 p.m. ET 5/11/21.

Docket Numbers: FC21-24-000.

Applicants: Guelph Energy Storage LP, Sault Ste Marie Energy Storage LP, Sarnia Energy Storage 1 LP, Bolton Energy Storage 1 LP, Convergent Windsor ULC, Convergent Sarnia 2 ULC, Convergent Brockville ULC, Convergent Collingswood ULC.

Description: Self-Certification of Foreign Utility Company Status of the Convergent Canada Companies.

Filed Date: 4/22/21.

Accession Number: 20210422-5096.

Comments Due: 5 p.m. ET 5/13/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 22, 2021.
Kimberly D. Bose,
Secretary.

[FR Doc. 2021-08832 Filed 4-27-21; 8:45 am]

BILLING CODE 6717-01-P